DEPARTMENT OF HOMELAND SECURITY

Coast Guard

33 CFR Part 165

[Docket No. USCG-2014-0722]

Safety Zones; Recurring Events in Captain of the Port Duluth Zone—Superior Man Triathlon

AGENCY: Coast Guard, DHS.

ACTION: Notice of enforcement of regulation.

SUMMARY: The Coast Guard will enforce its safety zone for the Superior Man Triathlon in Duluth, MN from 6 a.m. through 9 a.m. on August 24, 2014. This action is necessary to protect participants during the swimming portion of the Superior Man Triathlon. During the enforcement period, entry into, transiting, or anchoring within the safety zone is prohibited unless authorized by the Captain of the Port Duluth or his designated on-scene representative.

DATES: The regulations in 33 CFR 165.943(b) will be enforced from 6 a.m. through 9 a.m. on August 24, 2014, for the Superior Man Triathlon safety zone, § 165.943(a)(8).

FOR FURTHER INFORMATION CONTACT: If you have questions on this document, call or email LT Judson Coleman, Chief of Waterways Management, Coast Guard; telephone (218) 725-3818, email Judson.A.Coleman@uscg.mil.

SUPPLEMENTARY INFORMATION: The Coast Guard will enforce the safety zone for the annual Superior Man Triathlon in 33 CFR 165.943(a)(8) from 6 a.m. through 9 a.m. on August 24, 2014 on all waters of the Duluth Harbor Basin, Northern Section, including the Duluth Entry encompassed in an imaginary line beginning at point 46°46′36.12″ N 092°06′06.99″ W, running southeast to 46°46′32.75″ N 092°06′01.74″ W, running northeast to 46°46′45.92″ N 092°05′45.18″ W, running northwest to 46°46′49.47″ N 092°05′49.35″ W and finally running southwest back to the starting point.

Entry into, transiting, or anchoring within the safety zone is prohibited unless authorized by the Captain of the Port Duluth or his designated on-scene representative. The Captain of the Port's designated on-scene representative may be contacted via VHF Channel 16.

This document is issued under authority of 33 CFR 165.943 and 5 U.S.C. 552(a). In addition to this publication in the Federal Register, the Coast Guard will provide the maritime community with advance notification of the enforcement of this safety zone via Broadcast Notice to Mariners. The Captain of the Port Duluth or his on-scene representative may be contacted via VHF Channel 16.

Dated: July 21, 2014.
A.H. Moore, Jr.,
Commander, U.S. Coast Guard, Captain of the Port Duluth.

[FR Doc. 2014-18601 Filed 8-5-14; 8:45 am]

BILLING CODE 9110-04-P